DEPARTMENT OF VETERANS AFFAIRS

[OMB Control No. 2900-NEW]

Agency Information Collection Activity Under OMB Review: Monthly Progress Report-Veteran Readiness and Employment

AGENCY: Veterans Benefits Administration, Department of Veterans Affairs.

ACTION: Notice.

SUMMARY: In compliance with the Paperwork Reduction Act (PRA) of 1995, this notice announces that the Veterans Benefits Administration, Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice by clicking on the following link www.reginfo.gov/public/do/PRAMain, select “Currently under Review—Open for Public Comments”, then search the list for the information collection by Title or “OMB Control No. 2900-NEW.”

FOR FURTHER INFORMATION CONTACT: Maribel Aponte, Office of Enterprise and Integration, Data Governance Analytics (008), 810 Vermont Ave. NW, Washington, DC 20420, (202) 266-4688 or email maribel.aponte@va.gov. Please refer to “OMB Control No. 2900-NEW” in any correspondence.

SUPPLEMENTARY INFORMATION:

Authority: 38 U.S.C 3116 and 3117.

Title: Monthly Progress Report-Veteran Readiness and Employment.

OMB Control Number: 2900-NEW.

Type of Review: New collection.

Abstract: VA Form 28-10289 is primarily used to gather information to determine the Veteran's monthly employment progress as outlined in his or her Individualized Employment Assistance Plan. Without this information, VR&E service is unable to ensure that program participants are receiving the necessary employment services to ensure the successful completion of their rehabilitation program.

An agency may not conduct or sponsor, and a person is not required to respond to a collection of information unless it displays a currently valid OMB control number. The Federal Register Notice with a 60-day comment period soliciting comments on this collection of information was published at insert citation date: 88 FR 77673 on November 13, 2023, pages 77673.

Affected Public: Individuals or Households.

Estimated Annual Burden: 3,896.50.

Estimated Average Burden per Respondent: 15 minutes.

Frequency of Response: Monthly.

Estimated Number of Respondents: 15,586.

By direction of the Secretary.
Maribel Aponte,
VA PRA Clearance Officer, Office of Enterprise and Integration, Data Governance Analytics, Department of Veterans Affairs.

[FR Doc. 2024-00681 Filed 1-12-24; 8:45 am]

BILLING CODE 8320-01-P